DEPARTMENT OF COMMERCE

International Trade Administration

[A-583-859]

Steel Concrete Reinforcing Bar From Taiwan: Rescission of Antidumping Duty Administrative Review

AGENCY: Enforcement and Compliance, International Trade Administration, Department of Commerce.

SUMMARY: The Department of Commerce (Commerce) is rescinding the administrative review of the antidumping duty order on steel concrete reinforcing bar from Taiwan for the period of review (POR): October 1, 2018, through September 30, 2019.

DATES: Applicable March 27, 2020.

FOR FURTHER INFORMATION CONTACT: Leo Ayala or Kathryn Wallace, AD/CVD Operations, Office VII, Enforcement and Compliance, International Trade Administration, U.S. Department of Commerce, 1401 Constitution Avenue NW, Washington, DC 20230; Telephone: (202) 482-3945 or (202) 482-6251, respectively.

SUPPLEMENTARY INFORMATION:

Background

On October 1, 2019, Commerce published a notice of opportunity to request an administrative review of the antidumping duty order on steel concrete reinforcing bar (rebar) from Taiwan for the period October 1, 2018, through September 30, 2019.¹ On October 31, 2019, the petitioner ² filed a timely request for review with respect to Power Steel Co., Ltd. (Power Steel).³ No other review requests were submitted. Based on the petitioner's request, on December 11, 2019, in accordance with section 751(a) of the Tariff Act of 1930, as amended (the Act), and 19 CFR 351.213(b), Commerce published in the Federal Register a notice of initiation of an administrative review of Power Steel for the October 1, 2018, through September 30, 2019 POR.⁴ On March 10, 2020, the petitioner submitted a timely withdrawal of its review request of Power Steel in this administrative review of the antidumping duty order on rebar from Taiwan.⁵

¹ See Antidumping or Countervailing Duty Order, Finding, or Suspended Investigation; Opportunity to Request Administrative Review, 84 FR 52068 (October 1, 2019).

² The petitioner is Rebar Trade Action Coalition (RTAC), and its individual members Byer Steel Group, Inc., Commercial Metals Company, Gerdau Ameristeel U.S. Inc., Nucor Corporation, and Steel Dynamics, Inc.

³ See Petitioner's Letter, “Steel Concrete Reinforcing Bar from Taiwan: Request for Administrative Review,” dated October 31, 2019.

⁴ See Initiation of Antidumping and Countervailing Duty Administrative Reviews, 84 FR 67712 (December 11, 2019) (Initiation Notice).

⁵ See Petitioner's Letter, “Steel Concrete Reinforcing Bar from Taiwan: Withdrawal of Request for Administrative Review,” dated March 10, 2020.

Rescission of Review

Pursuant to 19 CFR 351.213(d)(1), Commerce will rescind an administrative review, in whole or in part, if the parties that requested the review withdraw the request within 90 days of the date of publication of notice of initiation of the requested review. As noted above, the petitioner fully withdrew its review request by the 90-day deadline, and no other party requested an administrative review of the antidumping duty order. As such, Commerce is in receipt of a timely request for withdrawal of this administrative review with respect to the sole company for which a review was requested and for which this review was initiated, Power Steel.⁶ Accordingly, we are rescinding the administrative review of the antidumping duty order on rebar from Taiwan for the period October 1, 2018, through September 30, 2019, in its entirety.

⁶ See Initiation Notice.

Assessment

Commerce will instruct U.S. Customs and Border Protection (CBP) to assess antidumping duties on all appropriate entries of rebar from Taiwan at rates equal to the cash deposit of estimated antidumping duties required at the time of entry, or withdrawal from warehouse, for consumption, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping and/or countervailing duties occurred and the subsequent assessment of doubled antidumping duties.

Notification Regarding Administrative Protective Order

This notice serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and the terms of an APO is a sanctionable violation.

This notice is issued and published in accordance with section 751(a)(1) and 777(i)(1) of the Act and 19 CFR 351.213(d)(4).

Dated: March 23, 2020.
James Maeder,
Deputy Assistant Secretary for Antidumping and Countervailing Duty Operations.

[FR Doc. 2020-06397 Filed 3-26-20; 8:45 am]

BILLING CODE 3510-DS-P